DEPARTMENT OF HEALTH AND HUMAN SERVICES

Centers for Disease Control and Prevention

[30Day-22-0765]

Agency Forms Undergoing Paperwork Reduction Act Review

In accordance with the Paperwork Reduction Act of 1995, the Centers for Disease Control and Prevention (CDC) has submitted the information collection request ”Fellowship Management System (FMS)” to the Office of Management and Budget (OMB) for review and approval. CDC previously published a “Proposed Data Collection Submitted for Public Comment and Recommendations” notice on March 14, 2022 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Fellowship Management System (FMS) (OMB Control No. 0920-0765, Exp. 3/31/2023)—Revision—Center for Surveillance, Epidemiology, and Laboratory Services (CSELS), Centers for Disease Control and Prevention (CDC).

Background and Brief Description

CDC's Division of Scientific Education and Professional Development (DSEPD), in the Center for Surveillance, Epidemiology, and Laboratory Services (CSELS), requests OMB approval to continue use of the CDC Fellowship Management System (FMS) (OMB Control No. 0920-0765), with changes. The mission of DSEPD is to improve health outcomes through a competent, sustainable, and empowered public health workforce. Professionals in public health, epidemiology, medicine, economics, information science, veterinary medicine, nursing, public policy, and other related professionals seek opportunities, through CDC fellowships, to broaden their knowledge, and skills to improve the science and practice of public health. CDC fellows are assigned to state, tribal, local, and territorial public health agencies; federal government agencies, including CDC and Department of Health and Human Services' (HHS) operational divisions, such as Centers for Medicare & Medicaid Services; and to nongovernmental organizations, including academic institutions, tribal organizations, and private public health organizations.

CDC uses FMS to collect, process, and manage data from nonfederal applicants seeking training or public health support services through CDC fellowships. FMS is used to electronically submit fellowship applications, submit fellowship host site proposals, track completion of fellowship activities, and maintain fellowship alumni directories online. FMS is a flexible and robust electronic information system standardized and tailored for each CDC fellowship, collecting only the minimum amount of information needed. The system is critical to streamlining data management for CDC and reducing burden for respondents. FMS is key to CDC's ability to protect the public's health by supporting training opportunities that strengthen the public health workforce.

The proposed revision has two purposes: (1) increase the number of likely respondents, and (2) change the software platform on which FMS operates. The increase in the estimated number of respondents is a result of increased funding that will allow DSEPD to expand many of the fellowships managed through FMS. The change in software platform will provide CDC with an even more efficient, effective, and secure electronic mechanism for collecting, processing, and monitoring fellowship information. The proposed software platform is the Microsoft® Power Platform® (Microsoft Corporation, Cary, Washington). Integration of the suite of Microsoft tools for data management, analysis, and visualization will allow CDC to access fellowship data in real time; moreover, data cleaning and manipulation do not need to be done outside the system, which will increase the security of these data. These increased functionalities will facilitate the enhanced use of administrative data collections for program improvement and evidence building activities across CDC and other federal agencies. The update to the software platform will also make it easier for additional fellowships to opt to use FMS, expanding the benefits of the system to a broader set of CDC programs. Finally, the platform change also should enhance user experience. This revision does not propose substantive changes to the nature or extent of information collected from respondents.

OMB approval is requested for three years. The revision will allow all respondents—fellowship applicants, public health agencies hosting fellowship participants, and fellowship alumni—the continued use of FMS for submission of electronic data with increased efficiency and reduced burdens.

The annualized burden table reflects OMB-approved changes since 2020 and anticipated growth in fellowships from 2022 onward. There is no cost to respondents other than their time. The total estimated annualized burden hours are 13,186.

Estimated Annualized Burden Hours
Type of respondents | Form name | Number of respondents | Number of responses per respondent | Average burden per response (in hours)
Fellowship Applicants | FMS Application Module | 5,146 | 1 | 87/60
Reference Letter Writers | FMS Application Module | 6,842 | 1 | 15/60
Subset of FMS Fellowship Applicants | FMS Application Module (13.6) | 220 | 1 | 30/60
Public Health Agency or Organization Staff | FMS Host Site Module | 960 | 1 | 75/60
Public Health Agency or Organization Staff | FMS Activity Tracking Module | 555 | 2 | 30/60
Fellowship alumni | FMS Alumni Directory | 3,484 | 1 | 37/60

Jeffrey M. Zirger,
Lead, Information Collection Review Office, Office of Scientific Integrity, Office of Science, Centers for Disease Control and Prevention.

[FR Doc. 2022-14758 Filed 7-11-22; 8:45 am]

BILLING CODE 4163-18-P